DEPARTMENT OF ENERGY

Federal Energy Regulatory Commission

[Docket Nos. RM20-10-000; AD19-19-000]

Electric Transmission Incentives Policy Under Section 219 of the Federal Power Act; Notice of Workshop

Take notice that Federal Energy Regulatory Commission (Commission) staff will convene a workshop to discuss certain performance-based ratemaking approaches, particularly shared savings, that may foster deployment of transmission technologies. Commissioners may attend and participate in the workshop.

Transmission technologies, as deployed in certain circumstances, may enhance reliability, efficiency, and capacity, and improve the operation of new or existing transmission facilities. The workshop will discuss issues related to shared savings approaches ¹ for transmission technologies seeking incentives under Federal Power Act section 219.² The workshop will focus on how to calculate ex ante and ex post benefit analyses for transmission technologies seeking incentives. Specifically, the workshop will explore the maturity of the modeling approaches for various transmission technologies; the data needed to study the benefits/costs of such technologies; issues pertaining to access to or confidentiality of this data; the time horizons that should be considered for such studies; and other issues related to verifying forecasted benefits. The workshop may also discuss other issues, including whether and how to account for circumstances in which benefits do not materialize as anticipated. The workshop may also explore other performance-based ratemaking approaches for transmission technologies seeking incentives under Federal Power Act section 219, particularly market-based incentives.³

¹ See, e.g., WATT Coalition and Advanced Energy Economy July 1, 2020 Comments.

² 16 U.S.C. 824s(b)(3).

³ See, e.g., Potomac Economics July 1, 2020 Comments at 11-12, 19; Independent Market Monitor for PJM July 1, 2020 Comments at 7-15.

The workshop will be held on September 10, 2021, from approximately 9:00 a.m. to 5:00 p.m. Eastern Time. At this time, the workshop is expected to be held remotely. A supplemental notice will be issued prior to the workshop with further details regarding the agenda and organization, as well as the details for accessing the workshop.

Individuals interested in participating as panelists should submit a self-nomination email by 5:00 p.m. on May 21, 2021 to Samin.Peirovi@ferc.gov. Each nomination should indicate the proposed panelist's name, contact information, organizational affiliation, and what topics the proposed panelist would speak on.

The workshop will be open for the public to attend electronically. There is no fee for attendance.

Commission workshops are accessible under section 508 of the Rehabilitation Act of 1973. For accessibility accommodations, please send an email to accessibility@ferc.gov or call toll free 1-866-208-3372 (voice) or 202-208-8659 (TTY) or send a fax to 202-208-2106 with the required accommodations.

For more information about this workshop, please contact:

Samin Peirovi (Technical Information) Office of Energy Policy and Innovation, (202) 502-8080, samin.peirovi@ferc.gov

Meghan O'Brien (Legal Information) Office of the General Counsel, (202) 502-6137, meghan.o'brien@ferc.gov

Sarah McKinley (Logistical Information) Office of External Affairs, (202) 502-8004, sarah.mckinley@ferc.gov

Dated: April 15, 2021.
Kimberly D. Bose,
Secretary.

[FR Doc. 2021-08237 Filed 4-20-21; 8:45 am]

BILLING CODE 6717-01-P